DEPARTMENT OF COMMERCE

National Oceanic and Atmospheric Administration

[RTID 0648-XA192]

New England Fishery Management Council; Public Meeting

AGENCY: National Marine Fisheries Service (NMFS), National Oceanic and Atmospheric Administration (NOAA), Commerce.

ACTION: Notice of public meeting.

SUMMARY: The New England Fishery Management Council (Council) is scheduling a public meeting via webinar of its Groundfish Committee to consider actions affecting New England fisheries in the exclusive economic zone (EEZ). Recommendations from this group will be brought to the full Council for formal consideration and action, if appropriate.

DATES: This webinar will be held on Wednesday, June 10, 2020 at 9:30 a.m. Webinar registration URL information: https://attendee.gotowebinar.com/register/8118081782845428240.

ADDRESSES: Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will receive a follow-up from the April Council meeting regarding the impact of the pandemic on the commercial groundfish fishery, including a discussion of the Groundfish Plan Development Team's (PDT) preliminary analysis of possible carryover options from fishing year 2019 to fishing year 2020 for sectors and the common pool. They will also receive an update on participation in the three webinar-based public hearings that occurred in April and May. The committee will receive an overview of groundfish specifications and management measures anticipated to be included in the action, which will be initiated at the June 2020 Council meeting. They will discuss an overview from the Northeast Fisheries Science Center regarding the management track assessment plans and Assessment Oversight Panel results from their May 27 meeting as well as an overview of PDT correspondence review and discussion of next steps. The committee will receive an introduction of the Executive Order on Promoting Seafood Competitiveness and Economic Growth. They will provide recommendations to the Council, as appropriate. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: May 19, 2020.
Tracey L. Thompson,
Acting Deputy Director, Office of Sustainable Fisheries, National Marine Fisheries Service.

[FR Doc. 2020-11088 Filed 5-21-20; 8:45 am]

BILLING CODE 3510-22-P